DEPARTMENT OF HEALTH AND HUMAN SERVICES

National Institutes of Health

National Cancer Institute; Amended Notice of Meeting

Notice is hereby given of a change in the meeting of the National Cancer Institute Special Emphasis Panel, June 26, 2013, 06:00 p.m. to June 27, 2013, 03:00 p.m., Holiday Inn Express, 1775 Rockville Pike, Rockville, MD 20852 which was published in the Federal Register on March 29, 2013, 78 FR 19275.

This notice is being amended to change the location from Holiday Inn Express, 1775 Rockville Pike, Rockville, MD 20852 to Hilton Washington, DC/Rockville, 1750 Rockville Pike, Rockville, MD 20852. The meeting is closed to the public.

Dated: May 7, 2013.
Melanie J. Gray,
Program Analyst, Office of Federal Advisory Committee Policy.

[FR Doc. 2013-11344 Filed 5-13-13; 8:45 am]

BILLING CODE 4140-01-P